DEPARTMENT OF HEALTH AND HUMAN SERVICES

Food and Drug Administration

[Docket No. FDA-2012-N-0001]

Second Annual Food and Drug Administration Health Professional Organizations Conference

AGENCY: Food and Drug Administration, HHS.

ACTION: Notice of conference.

The Food and Drug Administration (FDA) is announcing a conference for representatives of health professional organizations. Topics on the agenda include an update on the FDA Safety and Innovation Act (Pub. L. 112-144) and an overview of FDA's Network of Experts (public/private partnerships).

The afternoon will consist of interactive breakout sessions facilitated by FDA staff from various Centers and Offices, including a networking session to meet FDA personnel.

DATES: Date and Time: The conference will be held on October 4, 2012, from 9 a.m. to 4 p.m.

Location: The conference will be held at FDA White Oak Campus, 10903 New Hampshire Ave., Bldg. 31 Conference Center, the Great Room (rm. 1503), Silver Spring, MD 20993.

Contact Person: Janelle Derbis, Office of Special Health Issues, Food and Drug Administration, 10903 New Hampshire Ave., Silver Spring, MD 20993, 301-796-8460, email: Janelle.Derbis@fda.hhs.gov.

Registration: Register at: https://www.surveymonkey.com/s/FDAConference. Please include the name and title of the person attending, the name of the organization, and email address. There is no registration fee for this conference. Early registration is suggested because space is limited.

SUPPLEMENTARY INFORMATION: The aim of the conference is to further the public health mission of FDA through training, collaboration, and structured discussion between health professional organizations and FDA staff. The Office of Special Health Issues serves as a liaison between FDA Centers and the public on matters that involve medical product safety and also acts as the public's link to information about the medical product approval process.

The conference will include breakout session topics from various FDA Centers including a discussion on the usability and content of FDA's Web site, information on what happens after you submit a MedWatch report, protecting patients from counterfeit and other substandard drugs/supply chain threats, and others. The goal of the breakout sessions is to exchange ideas and to encourage collaboration to promote public health. Please indicate during your registration the topics of greatest interest to you for the breakout sessions.

If you need special accommodations due to a disability, please inform Janelle Derbis, Janelle.Derbis@fda.hhs.gov, at least 7 days in advance of the conference.

Dated: August 3, 2012.
Leslie Kux,
Assistant Commissioner for Policy.

[FR Doc. 2012-19549 Filed 8-8-12; 8:45 am]

BILLING CODE 4160-01-P